INTERNATIONAL TRADE COMMISSION

[Investigation Nos. 701-TA-415 and 731-TA-933 and 934 (Third Review)]

Polyethylene Terephthalate Film, Sheet, and Strip From India and Taiwan; Notice of Commission Determination To Conduct Full Five-Year Reviews

AGENCY: United States International Trade Commission.

ACTION: Notice.

SUMMARY: The Commission hereby gives notice that it will proceed with full reviews pursuant to the Tariff Act of 1930 to determine whether revocation of the countervailing duty order on polyethylene terephthalate film, sheet, and strip (“PET film”) from India and the antidumping duty orders on PET film from India and Taiwan would likely lead to the continuation or recurrence of material injury within a reasonably foreseeable time. A schedule for the reviews will be established and announced at a later date.

DATES: October 4, 2019.

FOR FURTHER INFORMATION CONTACT: Charlie Cummings (202-708-1666), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov. For further information concerning the conduct of these reviews and rules of general application, consult the Commission's Rules of Practice and Procedure, part 201, subparts A through E (19 CFR part 201), and part 207, subparts A, D, E, and F (19 CFR part 207).

SUPPLEMENTARY INFORMATION: On October 4, 2019, the Commission determined that it should proceed to full reviews in the subject five-year reviews pursuant to section 751(c) of the Tariff Act of 1930 (19 U.S.C. 1675(c)). The Commission found that the domestic interested party group response to its notice of institution (84 FR 31343, July 1, 2019) was adequate. With respect to the orders on PET film from India, two Commissioners determined that the respondent interested party group response was adequate, and one Commissioner determined that the respondent group response was inadequate, but found that changes in the conditions of competition warranted full reviews of these orders. Consequently, the Commission determined to conduct full reviews of the antidumping and countervailing duty orders on PET film from India.¹ With respect to the antidumping duty order on PET film from Taiwan, the Commission determined that the respondent interested party group response was inadequate. The Commission determined, however, to conduct a full review of the order in order to promote administrative efficiency in light of its determination to conduct full reviews of the orders on PET film from India.² A record of the Commissioners' votes, the Commission's statement on adequacy, and any individual Commissioner's statements will be available from the Office of the Secretary and at the Commission's website.

¹ Two Commissioners determined that the respondent interested party group response was inadequate and voted to conduct expedited reviews of the orders on PET film from India.

² Two Commissioners voted to conduct an expedited review of the order on PET film from Taiwan.

Authority: These reviews are being conducted under authority of title VII of the Tariff Act of 1930; this notice is published pursuant to section 207.62 of the Commission's rules.

By order of the Commission.
Issued: December 6, 2019.
Lisa Barton,
Secretary to the Commission.

[FR Doc. 2019-26725 Filed 12-11-19; 8:45 am]

BILLING CODE 7020-02-P